ENVIRONMENTAL PROTECTION AGENCY

[EPA-HQ-OPP-2010-0778; FRL-8847-9]

Chloroneb; Product Cancellation Order for Certain Pesticide Registrations

AGENCY: Environmental Protection Agency (EPA).

ACTION: Notice.

SUMMARY: This notice announces EPA's cancellation order for products containing the pesticide chloroneb, pursuant to section 3 of the Federal Insecticide, Fungicide, and Rodenticide Act (FIFRA), as amended. This cancellation order announces the October 31, 2010, expiration of certain chloroneb time-limited registrations. These are not the last products containing this pesticide registered for use in the United States. Any distribution, sale, or use of the products subject to this cancellation order is permitted only in accordance with the terms of this order, including any existing stock provisions.

DATES: The expirations occur on October 31, 2010.

FOR FURTHER INFORMATION CONTACT: Wilhelmena Livingston, Pesticide Re-evaluation Division (7508P), Office of Pesticide Programs, Environmental Protection Agency, 1200 Pennsylvania Ave., NW., Washington, DC 20460-0000; telephone number: (703) 308-8025; fax number: (703) 308-8005; e-mail address: livingston.wilhelmena@epa.gov.

SUPPLEMENTARY INFORMATION:

I. General Information

A. Does this action apply to me?

This action is directed to the public in general, and may be of interest to a wide range of stakeholders including environmental, human health, agricultural advocates, the chemical industry, pesticide users, and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0778. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

II. What Action Is the Agency Taking?

This notice announces the October 31, 2010, expiration of certain chloroneb products registered under section 3 of FIFRA. This notice serves as a cancellation order to provide for existing stocks of affected products. These registrations are listed in sequence by registration number in Table 1 of this unit.

Table 1—Chloroneb Product Cancellations
EPA Registration No. | Product name
73782-1 | Chloroneb Fungicide Technical.
73782-3 | Terraneb SP Turf Fungicide.
73782-4 | Terraneb SP Flowable Turf and Ornamental Fungicide.

Table 2 of this unit includes the name and address of record for the registrant of the products in Table 1 of this unit, by EPA company number. This number corresponds to the first part of the EPA registration numbers of the products listed in Table 1 of this unit.

Table 2—Registrant of Canceled Chloroneb Products
EPA company No. | Company name and address
73782 | Kincaid, Inc., P.O. Box 490, Athens, TN 37371.

III. Cancellation Order

Pursuant to FIFRA section 3, EPA hereby announces the expiration of chloroneb registrations identified in Table 1 of Unit II. This cancellation order announces the October 31, 2010, expiration of certain time-limited registrations. These registrations expire on October 31, 2010, because the technical registrant, Kincaid, Inc., failed to meet the terms and conditions of registration as requested in correspondence dated September 26, 2005, and subsequently granted by the Agency. The Agency considers the expiration of a time-limited registration to be a cancellation under section 3 of FIFRA, for purposes of section 6(a)(1) of FIFRA. Any distribution, sale, or use of existing stocks of the canceled products identified in Table 1 of Unit II. in a manner inconsistent with any of the Provisions for Disposition of Existing Stocks set forth in Unit IV., will be considered a violation of FIFRA.

IV. Provisions for Disposition of Existing Stocks

Existing stocks are those stocks of registered pesticide products that are currently in the United States and were packaged, labeled, and released for shipment prior to the effective date of the cancellation action. The cancellation order issued in this notice includes the following existing stock provisions.

The registrant may continue to sell or distribute existing stocks of chloroneb products identified in Table 1 of Unit II. until October 31, 2011, which is 1 year after the expiration of the time-limited registrations. Thereafter, the registrant is prohibited from selling or distributing products listed in Table 1 of Unit II., except for export in accordance with FIFRA section 17 or for proper disposal.

Persons other than the registrant may continue to sell, distribute, or use existing stocks of canceled products until supplies are exhausted, provided that the sale, distribution, or use is consistent with the terms of the previously approved labeling on, or that accompanied, the canceled products.

List of Subjects

Environmental protection, Pesticides and pests.

Dated: September 24, 2010.
Richard P. Keigwin, Jr.
Director, Pesticide Re-evaluation Division, Office of Pesticide Programs.

[FR Doc. 2010-24803 Filed 10-5-10; 8:45 am]

BILLING CODE 6560-50-P